DEPARTMENT OF TRANSPORTATION

Federal Motor Carrier Safety Administration

[Docket No. FMCSA-2007-0082]

Agency Information Collection Activities; Revision of a Currently Approved Information Collection: Motor Carrier Identification Report

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. FMCSA requests approval to revise an ICR entitled, “Motor Carrier Identification Report,” which is used to identify FMCSA regulated entities, help prioritize the agency's activities, aid in assessing the safety outcomes of those activities, and for statistical purposes. On November 7, 2007, FMCSA published a Federal Register notice allowing for a 60-day comment period on the ICR. No comments were received.

DATES: Please send your comments by February 19, 2008. OMB must receive your comments by this date in order to act quickly on the ICR.

ADDRESSES: All comments should reference DOT Docket No. FMCSA-2007-0082. You may submit comments to the Office of Information and Regulatory Affairs, Office of Management and Budget, 725 Seventeenth Street, NW., Washington, DC 20503, Attention: DOT/FMCSA Desk Officer.

FOR FURTHER INFORMATION CONTACT: Ms. Delores Vaughn, Transportation Specialist, Office of Information Technology, Operations Division, Department of Transportation, Federal Motor Carrier Safety Administration, 6th Floor, West Building, 1200 New Jersey Ave., SE., Washington, DC 20590. Telephone Number: (202) 366-9409; e-mail address: delores.vaughn@dot.gov. Office hours are from 7 a.m. to 4:30 p.m., Monday through Friday, except Federal Holidays.

SUPPLEMENTARY INFORMATION: Title: Motor Carrier Identification Report.

OMB Control Number: 2126-0013.

Type of Request: Revision of a currently-approved information collection.

Respondents: Motor carriers and commercial motor vehicle drivers.

Estimated Number of Respondents: 472,470.

Estimated Time per Response: To complete Form MCS-150—20 minutes; and for Form MCS-150A—9 minutes. To complete Form MCS-150B (HM Permit Application)—6 minutes for interstate carriers that have already completed the Form MCS-150; and for intrastate carriers that have never completed a Form MCS-150—they will need about 16 minutes to complete the permit renewal.

Expiration Date: January 31, 2008.

Frequency of Response: One time for Form MCS-150A; biennially for MCS-150 and MCS-150B.

Estimated Total Annual Burden: 119,270 hours [108,825 hours for Form MCS-150 + 10,305 hours for Form MCS-150A + 140 hours for Form MCS-150B = 119,270 hours].

Background: Title 49 U.S.C. 504(b)(2) provides the Secretary of Transportation (Secretary) with authority to require carriers, lessors, associations, or classes of them to file annual, periodic, and special reports containing answers to questions asked by the Secretary. The Secretary may also prescribe the form of records required to be prepared or compiled and the time period during which records must be preserved (See §§ 504(b)(1) and (d)). FMCSA will use this data to administer its safety programs by establishing a database of entities that are subject to its regulations. This database necessitates that these entities notify the FMCSA of their existence. For example, under 49 CFR 390.19(a), FMCSA requires all motor carriers beginning operations to file a Form MCS-150 entitled, “Motor Carrier Identification Report.” This report is filed by all motor carriers conducting operations in interstate or international commerce within 90 days after beginning operations. It asks the respondent to provide the name of the business entity that owns and controls the motor carrier operation, address and telephone of principal place of business, assigned identification number(s), type of operation, types of cargo usually transported, number of vehicles owned, term leased and trip leased, driver information, and certification statement signed by an individual authorized to sign documents on behalf of the business entity.

The Department of Transportation (DOT) and Related Agencies Appropriations Act for fiscal year 2002 (DOT Appropriations Act) (Pub. L. 107-87, 115 Stat. 833, December 18, 2001) directed the agency to implement section 210 of the Motor Carrier Safety Improvement Act of 1999 (Pub. L. 106-159, 113 Stat. 1748, December 9, 1999) by issuing an interim final rule (IFR) to ensure that new entrant motor carriers are knowledgeable about the Federal Motor Carrier Safety Regulations (FMCSRs) and standards. The IFR was published on May 13, 2002 (67 FR 31983). The Form MCS-150A associated with this rule is entitled, “Safety Certification for Application for U.S. DOT Number,” and is used to help ensure that new entrants are knowledgeable about the Federal motor carrier safety regulations and standards before being granted registration authority to operate in interstate commerce (Intrastate carriers are not considered new entrants since they do not operate in interstate commerce; and thus do not need to complete or file the Form MCS-150A.). Under the Form MCS-150A, as required by 49 CFR 385.305, the new entrant must certify that it has a system(s) in place to ensure compliance with applicable requirements covering driver qualifications, hours-of-service, controlled substance and alcohol testing, vehicle condition, accident monitoring and hazardous materials (HM) transportation. The certification reminds the new entrant of its statutory and regulatory responsibilities, which if neglected or violated, may subject the applicant to civil penalties and lead to the revocation of the new entrant registration.

On June 30, 2004, the agency issued another final rule entitled, “Federal Motor Carrier Safety Regulations: Hazardous Materials Safety Permits,” (69 FR 39350) which required all HM carriers (both interstate and intrastate) to complete and file the Form MCS-150B entitled, “Combined Motor Carrier Identification Report and HM Permit Application,” to obtain a safety permit to transport hazardous materials. The safety program under 49 CFR 390.19(a) also requires all HM permitted carriers to complete Form MCS-150B in place of the current Form MCS-150 to “renew” both their permit and their DOT numbers according to the DOT number renewal schedule.

Accordingly, FMCSA seeks to revise this currently-approved information collection to update the records and forms associated with its safety programs identified above; and to identify the regulated entities currently engaged in these activities.

FMCSA published a Federal Register notice allowing for a 60-day comment period on the ICR on November 7, 2007. No comments were received in response to this notice.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued on: January 10, 2008.
Terry Shelton,
Associate Administrator for Research and Information Technology.

[FR Doc. E8-793 Filed 1-16-08; 8:45 am]

BILLING CODE 4910-EX-P